ENVIRONMENTAL PROTECTION AGENCY

[FRL-10170-01-OA]

Request for Nominations for the Science Advisory Board Environmental Justice Screen (EJScreen) Review Panel

AGENCY: Environmental Protection Agency (EPA).

ACTION: Notice.

SUMMARY: The Environmental Protection Agency (EPA) Science Advisory Board (SAB) Staff Office requests public nominations of scientific experts to form a Panel to review the updated EJScreen methodology. EJScreen is an environmental justice mapping and screening tool that provides EPA with a nationwide consistent approach for combining environmental and demographic indicators to identify areas with potential environmental justice (EJ) concerns. The SAB EJScreen Review Panel will consider the EJScreen methodology and updated calculations for the EJ indexes released publicly in 2022, as well as other aspects of the calculations. The Panel will also be asked to provide recommendations and expert input on other components of the tool.

DATES: Nominations should be submitted by September 20, 2022 per the instructions below.

FOR FURTHER INFORMATION CONTACT: Any member of the public who wishing further information concerning this notice may contact Dr. Zaida Figueroa, Designated Federal Officer (DFO), via telephone (202) 566-2643, or email at figueroa.zaida@epa.gov. General information about the SAB, as well as any updates concerning the meetings announced in this notice can be found on the SAB website at https://sab.epa.gov.

SUPPLEMENTARY INFORMATION: Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. app. 2) and related regulations. The SAB Staff Office is forming an expert panel, the SAB EJScreen Review Panel, under the auspices of the Chartered SAB. The SAB EJScreen Review Panel will provide advice through the chartered SAB. The SAB and the SAB EJScreen Review Panel will comply with the provisions of FACA and all appropriate SAB Staff Office procedural policies.

EJScreen is an environmental justice mapping and screening tool that provides EPA with a nationally consistent dataset and approach for combining environmental and demographic indicators to identify areas with potential EJ concerns. The data collected and screening tool may be of interest to governmental partners, the public, communities, and a variety of stakeholders as they search for environmental or demographic information. It can also support a wide range of purposes, including scientific research and policy goals. The SAB EJScreen Review Panel will conduct a review of the updated EJScreen methodology. The current methodology underlaying EJScreen was peer reviewed in 2014. EPA is currently updating that methodology and calculations for the EJ indexes, as well as other aspects of the mapping tool calculations including the use of percentiles, representation of the scores, buffer analysis, among other topics, that will be released publicly in 2022. The Panel will also be asked to provide recommendations and expert input on these updates, as well as the demographic index and methods to consider multiple geographies.

Request for Nominations: The SAB Staff Office is seeking nominations of nationally and internationally recognized scientists with demonstrated expertise in the following disciplines: applications of geographic information science (GIS), including mapping and geospatial analyses; cartography; environmental justice tools; index development; modeling; screening tools; environmental pollution; environmental economics; sociology; exposure assessment; environmental indicators; demographics; spatial mathematics or analysis; statistics and coding. Strongest consideration will be given to individuals with demonstrated experience working with overburdened and vulnerable communities, or communities with EJ concerns in addition to the disciplines listed above (as documented in their curriculum vitae, resume, and/or publication history).

Process and Deadline for Submitting Nominations: Any interested person or organization may nominate qualified individuals in the areas of expertise described above for possible service on the SAB Panel. Individuals may self-nominate. Nominations should be submitted in electronic format (preferred) using the online nomination form on the SAB website at https://sab.epa.gov (see the “Public Input on Membership” list under “Committees, Panels, and Membership”). To be considered, nominations should include the information requested below. EPA values and welcomes diversity. All qualified candidates are encouraged to apply regardless of sex, race, disability, or ethnicity. Nominations should be submitted in time to arrive no later than September 20, 2022. The following information should be provided on the nomination form: contact information for the person making the nomination; contact information for the nominee; and the disciplinary and specific areas of expertise of the nominee. Nominees will be contacted by the SAB Staff Office and will be asked to provide a recent curriculum vitae and a narrative biographical summary that includes: current position, educational background; research activities; sources of research funding for the last two years; and recent service on other national advisory committees or national professional organizations. Persons having questions about the nomination procedures, or who are unable to submit nominations through the SAB website, should contact the DFO at the contact information noted above. The names and biosketches of qualified nominees identified by respondents to this Federal Register notice, and additional experts identified by the SAB Staff Office, will be posted in a List of Candidates for the Panel on the SAB website at https://sab.epa.gov. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

The approved policy under which the EPA SAB Office selects members for subcommittees and review panels is described in the following document: Overview of the Panel Formation Process at the Environmental Protection Agency Science Advisory Board (EPA-SAB-EC-02-010), which is posted on the SAB website at https://sab.epa.gov.

Thomas H. Brennan,
Director, Science Advisory Board Staff Office.

[FR Doc. 2022-18683 Filed 8-29-22; 8:45 am]

BILLING CODE 6560-50-P